DEPARTMENT OF THE INTERIOR

National Park Service

Chesapeake and Ohio Canal National Historical Park Advisory Commission; Notice of Public Meeting

AGENCY: National Park Service, Department of the Interior.

ACTION: Notice of meeting.

SUMMARY: Notice is hereby given that a meeting of the Chesapeake and Ohio Canal National Historical Park Advisory Commission (the Commission) will be held at 9 a.m., on Friday, May 14, 2010, at the House of Sweden, 2900 K Street, NW., Washington, DC 20007.

DATES: Friday, May 14, 2010.

ADDRESSES: House of Sweden, 2900 K Street, NW., Washington, DC.

FOR FURTHER INFORMATION CONTACT: Kevin Brandt, Superintendent, Chesapeake and Ohio Canal National Historical Park, 1850 Dual Highway, Suite 100, Hagerstown, Maryland 21740, telephone: (301) 714-2201.

SUPPLEMENTARY INFORMATION: The Commission was established by Public Law 91-664 to meet and consult with the Secretary of the Interior on general policies and specific matters related to the administration and development of the Chesapeake and Ohio Canal National Historical Park, and the Commission seeks public comment in formulating its advice. Before including your address, phone number, e-mail address, or other personal identifying information in your comment, you should be aware that your entire comment—including your personal identifying information—may be made publicly available at any time. While you can ask us in your comment to withhold your personal identifying information from public review, we cannot guarantee that we will be able to do so.

The members of the Commission are as follows:

Mrs. Sheila Rabb Weidenfeld, Chairperson.

Mr. Charles J. Weir.

Mr. Barry A. Passett.

Mr. James G. McCleaf II.

Mr. John A. Ziegler.

Mrs. Mary E. Woodward.

Mrs. Donna Printz.

Mrs. Ferial S. Bishop.

Ms. Nancy C. Long.

Mrs. Jo Reynolds.

Dr. James H. Gilford.

Brother James Kirkpatrick.

Dr. George E. Lewis, Jr.

Mr. Charles D. McElrath.

Ms. Patricia Schooley.

Mr. Jack Reeder.

Ms. Merrily Pierce.

Topics that will be presented during the meeting include:

1. Update on park operations.

2. Update on major construction development projects.

3. Update on partnership projects.

The meeting will be open to the public. Any member of the public may file with the Commission a written statement concerning the matters to be discussed. Persons wishing further information concerning this meeting, or who wish to submit written statements, may contact Kevin Brandt, Superintendent, Chesapeake and Ohio Canal National Historical Park. Minutes of the meeting will be available for public inspection six weeks after the meeting at Chesapeake and Ohio Canal National Historical Park Headquarters, 1850 Dual Highway, Suite 100, Hagerstown, Maryland 21740.

Dated: February 25, 2010.
Kevin D. Brandt,
Deputy Superintendent, Chesapeake and Ohio Canal National Historical Park.

[FR Doc. 2010-7612 Filed 4-2-10; 8:45 am]

BILLING CODE 4310-6V-P